DEPARTMENT OF THE INTERIOR

National Park Service

Notice of Inventory Completion for Native American Human Remains and Associated Funerary Objects in the Possession of San Diego State University, San Diego, CA

AGENCY: National Park Service, Interior.

ACTION: Notice.

Notice is hereby given in accordance with provisions of the Native American Graves Protection and Repatriation Act (NAGPRA), 43 CFR 10.9, of the completion of an inventory of human remains and associated funerary objects in the possession of San Diego State University, San Diego, CA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by San Diego State University professional staff in consultation with representatives of the La Jolla Band of Luiseno Mission Indians of the La Jolla Reservation, California; the Pala Band of Luiseno Mission Indians of the Pala Reservation, California; the Pauma Band of Luiseno Mission Indians of the Pauma & Yuima Reservation, California; the Pechanga Band of Luiseno Mission Indians of the Pechanga Reservation, California; the Rincon Band of Luiseno Mission Indians of the Rincon Reservation, California; and the Soboba Band of Luiseno Mission Indians of the Soboba Reservation, California.

In 1977, human remains representing a minimum of one individual were recovered from site SDSU-0036, SDI-946, SDMM-W-149, in the vicinity of La Costa, CA, during the La Costa North project undertaken by RECON, a local environmental firm. No known individual was identified. No associated funerary objects are present.

Based on archeological evidence, geographic location, ethnographic information, and oral history evidence presented during consultation, these human remains have been identified as Native American and the individual represented by these remains has been identified as Luiseno. Luiseno have continuously occupied this territory since their arrival in San Diego County and within this time period are represented by late prehistoric lithics and an absence of ceramics.

In 1980, human remains representing a minimum of one individual were recovered from SDSU-0039, SDI-5612 (W-1667), in the vicinity of Del Mar, CA. The excavation was conducted by RECON for the Pardee Construction Company as part of the San Dieguito Estates Project. No known individual was identified. No associated funerary objects are present.

Based on archeological evidence, geographic location, ethnographic information, and oral history evidence presented during consultation, these remains have been identified as Native American and the individual represented by these remains has been identified as Luiseno. Luiseno have continuously occupied this territory since their arrival in San Diego County and within this time period are represented by late prehistoric lithics and an absence of ceramics.

In 1979, human remains representing a minimum of one individual were recovered from the Circle R site, SDSU-0269, SDI-5069, in the vicinity of Gopher Canyon, CA. Excavations were conducted by RECON. No known individual was identified. No associated funerary objects are present.

Based on geographic location, ethnographic information, and oral history evidence presented during consultation, these remains have been identified as Native American and the individual represented by these remains has been identified as Luiseno. Luiseno have continuously occupied this territory since their arrival in San Diego County and within this time period are represented by late prehistoric lithics and an absence of ceramics.

Based on the above-mentioned information, officials of the San Diego State University have determined that, pursuant to 43 CFR 10.2 (d)(1), the human remains listed above represent the physical remains of a minimum of three individuals of Native American ancestry. Officials of San Diego State University also have determined that, pursuant to 43 CFR 10.2 (e), there is a relationship of shared group identity that can be reasonably traced between these Native American human remains and the La Jolla Band of Luiseno Mission Indians of the La Jolla Reservation, California; the Pala Band of Luiseno Mission Indians of the Pala Reservation, California; the Pauma Band of Luiseno Mission Indians of the Pauma & Yuima Reservation, California; the Pechanga Band of Luiseno Mission Indians of the Pechanga Reservation, California; the Rincon Band of Luiseno Mission Indians of the Rincon Reservation, California; and the Soboba Band of Luiseno Mission Indians of the Soboba Reservation, California.

This notice has been sent to officials of the La Jolla Band of Luiseno Misssion Indians of the La Jolla Reservation, California; the Pala Band of Luiseno Mission Indians of the Pala Reservation, California; the Pauma Band of Luiseno Mission Indians of the Pauma & Yuima Reservation, California; the Pechanga Band of Luiseno Mission Indians of the Pechanga Reservation, California; the Rincon Band of Luiseno Mission Indians of the Rincon Reservation, California; and the Soboba Band of Luiseno Mission Indians of the Soboba Reservation, California. Representatives of any other Indian tribe that believes itself to be culturally affiliated with these human remains and associated funerary objects should contact Lynne Christenson, Director, Collections Management Program, San Diego State University, 5500 Campanile Drive, San Diego, CA 92182-0701, telephone (619) 594-2305, before January 17, 2001. Repatriation of the human remains and associated funerary objects to the La Jolla Band of Luiseno Misssion Indians of the La Jolla Reservation, California; the Pala Band of Luiseno Mission Indians of the Pala Reservation, California; the Pauma Band of Luiseno Mission Indians of the Pauma & Yuima Reservation, California; the Pechanga Band of Luiseno Mission Indians of the Pechanga Reservation California; the Rincon Band of Luiseno Mission Indians of the Rincon Reservation, California; and the Soboba Band of Luiseno Mission Indians of the Soboba Reservation, California may begin after that date if no additional claimants come forward.

Dated: December 7, 2000.
John Robbins,
Assistant Director, Cultural Resources Stewardship and Partnerships

[FR Doc. 00-32111 Filed 12-15-00; 8:45 am]

BILLING CODE 4310-70-F